DEPARTMENT OF THE INTERIOR

National Indian Gaming Commission

25 CFR Part 537

RIN 3141-AA77

Fees; Correction

AGENCY: National Indian Gaming Commission, Department of the Interior.

ACTION: Proposed rule; correction.

SUMMARY: This document corrects the preamble to a proposed rule published in the Federal Register of December 2, 2021, regarding Fees. The document contained incorrect dates for submitting comments. This correction clarifies that comments are due January 31, 2022.

FOR FURTHER INFORMATION CONTACT: Michael Hoenig, 202-632-7003.

SUPPLEMENTARY INFORMATION:

Correction

In the Federal Register of December 2, 2021, in proposed rule FR Doc. 2021-25838, on page 68445, in the first column, change the Dates caption to read:

DATES: Written comments on this proposed rule must be received on or before January 31, 2022.

Dated: January 6, 2022.
Michael Hoenig,
General Counsel.

[FR Doc. 2022-00630 Filed 1-13-22; 8:45 am]

BILLING CODE 7565-01-P